DEPARTMENT OF COMMERCE

National Oceanic and Atmospheric Administration

[RIN 0648-XE79]

Notice of Public Hearings on the Cook Inlet Beluga Whale Subsistence Harvest Draft Supplemental Environmental Impact Statement

AGENCY: National Marine Fisheries Service (NMFS), National Oceanic and Atmospheric Administration (NOAA), Commerce.

ACTION: Notice of public hearings.

SUMMARY: NMFS will hold a two public hearings regarding the Cook Inlet beluga whale subsistence harvest Draft Supplemental Environmental Impact Statement (DSEIS).

DATES: See SUPPLEMENTARY INFORMATION for specific dates, times, and location of public hearings for this issue.

FOR FURTHER INFORMATION CONTACT: Barbara Mahoney, NMFS, 222 West 7th Avenue, Anchorage, AK 99513, telephone (907) 271 3448.

SUPPLEMENTARY INFORMATION: On December 28, 2007, notice was published in the Federal Register (72 FR 73798) of availability of the DSEIS for review and comments. Written comments on the DSEIS must be received by March 4, 2008. NMFS will hold two public hearings to inform interested parties of the alternatives analyzed and accept comments.

Public Hearings Agenda

Public hearings will be held at the following dates, times, and locations in Alaska:

1. January 29, 2008, from 4 to 7 p.m.; Loussac Public Library, Wilda Marston Room, 3600 Denali Street, Anchorage, AK.

2. January 30, 2008, from 4 to 7 p.m.; Kenai Peninsula Borough Assembly chambers, 144 North Binkley Street, Soldotna, AK.

Written comments will be accepted at these hearings as well as during the comment period.

Special Accommodations

These meetings are accessible to people with disabilities. Requests for sign language interpretation or other auxiliary aids should be directed to Barbara Mahoney (see FOR FURTHER INFORMATION CONTACT) at least 5 business days before the scheduled meeting date.

References

The DSEIS and other materials related to Cook Inlet belugas can be found on the NMFS Alaska Region Web site: http://www/fakr/noaa/gov.

Dated: January 10, 2008.
James H. Lecky,
Director, Office of Protected Resources, National Marine Fisheries Service.

[FR Doc. 08-121 Filed 1-11-08; 2:19 pm]

BILLING CODE 3510-22-S